ENVIRONMENTAL PROTECTION AGENCY

[FRL-7069-2]

Agency Information Collection Activities; Submission to OMB; Comment Request; EPA ICR No. 0596.07; Application and Summary Report for FIFRA Section 18 Emergency Exemption for Pesticides

AGENCY: Environmental Protection Agency (EPA).

ACTION: Notice.

SUMMARY: In compliance with the Paperwork Reduction Act (PRA) (44 U.S.C. 3501 et seq.), this document announces that the following Information Collection Request (ICR) has been forwarded to the Office of Management and Budget (OMB) for review and approval: Application and Summary Report for Emergency Exemption for Pesticides (EPA ICR No.0596.07; OMB No. 2070-0032). The ICR, which is abstracted below, describes the nature of the information collection activity and its expected burden and costs. The Federal Register document, required under 5 CFR 1320.8(d), soliciting comments on this collection of information was published on December 20, 2000 (65 FR 79823). EPA received no comments on this ICR during the 60-day comment period.

DATES: Additional comments may be submitted on or before October 29, 2001.

ADDRESSES: Send your comments, referencing the proper ICR number, to: Ms. Sandy Farmer, U.S. Environmental Protection Agency, Office of Environmental Information, Collection Strategies Division (2822), 1200 Pennsylvania Ave., NW., Washington, DC 20460; and send a copy of your comments to: Office of Information and Regulatory Affairs, Office of Management and Budget (OMB), Attention: Desk Officer for EPA, 725 17th Street, NW., Washington, DC 20503.

FOR FURTHER INFORMATION CONTACT: Sandy Farmer at EPA by phone on 202-260-2740, by e-mail: farmer.sandy@epa.gov or access the ICR at http://www.epa.gov/icr/icr.htm and refer to EPA ICR No. 0596.07; OMB Control No. 2070-0032.

SUPPLEMENTARY INFORMATION:

ICR Title: Application and Summary Report for Emergency Exemption for Pesticides

(EPA ICR 0596.07, OMB Control No. 2070-0032)

ICR Status

This is a request for extension of an existing approved collection that is currently scheduled to expire on September 30, 2001. EPA is asking OMB to approve this ICR for three years. Under 5 CFR 1320.10(e)(2), the Agency may continue to conduct or sponsor the collection of information while the submission is pending at OMB.

Abstract

This information collection activity is designed to provide EPA with necessary data to evaluate an application for permission to temporarily ship and use a pesticide product for an unregistered use to mitigate an emergency situation, and to evaluate the effectiveness of that product in allaying the emergency. The state lead agency, territorial government, or federal agency evaluates the need to submit an emergency exemption application, and submit these applications to EPA for unregistered uses of pesticides they believe are warranted. The uses are requested for a limited period of time to address the emergency situation only. Applications for Section 18 emergency exemptions are submitted at the discretion of a state, U.S. territory, or federal agency. Should one of these entities apply for the emergency, then the information and data described in the ICR must be submitted to EPA.

Burden Statement

The annual respondent burden for collection of information associated with the rule is estimated to average 99 hours per application. According to the Paperwork Reduction Act (PRA), “burden” means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information. The Agency may not conduct or sponsor, and a person is not required to respond to a collection of information that is subject to approval under the PRA, unless it displays a currently valid OMB control number. The OMB control numbers for EPA's information collections appear on the collection instruments or instructions, in the Federal Register notices for related rulemakings and ICR notices, and, if the collection is contained in a regulation, in a table of OMB approval numbers in 40 CFR part 9.

The ICR provides a detailed explanation of the information collection activity and the corresponding burden estimate, which is only briefly summarized here.

Respondents/affected entities: States, US territories, and Federal Agencies that regulate pesticides or pesticide products.

Estimated total number of potential respondents: 60.

Frequency of response: As necessary, when a pest emergency is identified by the respondents.

Estimated total/average number of responses for each respondent: 10 annually.

Estimated total annual burden hours: 59,400.

Estimated total annual non-labor costs: $0.

Changes in the ICR Since the Last Approval: The total annual burden associated with this ICR has increased 15,934 hours, from 43,466 hours in the previous ICR to 59,400 hours for this ICR. This change reflects a substantial increase in the number of FIFRA Section 18 emergency exemption applications submitted to the Agency and is described in detail in the ICR. The estimated burden per application, which decreased slightly due to an arithmetic correction to the estimate in the previous ICR, is otherwise unchanged.

According to the procedures prescribed in 5 CFR 1320.12, EPA has submitted this ICR to OMB for review and approval. Any comments related to the renewal of this ICR should be submitted within 30 days of this notice, as described above.

Dated: September 20, 2001.
Oscar Morales,
Director, Collection Strategies Division.

[FR Doc. 01-24378 Filed 9-27-01; 8:45 am]

BILLING CODE 6560-50-P